DEPARTMENT OF ENERGY

Federal Energy Regulatory Commission

[Docket No. AD23-3-000]

Establishing Interregional Transfer Capability Transmission Planning and Cost Allocation Requirements; Notice Requesting Post-Workshop Comment

On December 5 and 6, 2022, Federal Energy Regulatory Commission (Commission) staff convened a workshop to discuss whether and how the Commission could establish a minimum requirement for Interregional Transfer Capability for public utility transmission providers in transmission planning and cost allocation processes.

All interested persons are invited to file post-workshop comments on issues raised during the workshop that they believe would benefit from further discussion. In addition to addressing the questions listed in the Supplemental Notice,¹ parties are also invited to provide comments on the questions listed below. Commenters need not respond to all topics or questions asked.

¹ Supplemental Notice of Staff-Led Workshop, Docket No. AD23-3-000 (Nov. 30, 2022); see also Errata Notice, Docket No. AD23-3-000 (Dec. 2, 2022) (Supplemental Notices).

Commenters may reference material previously filed in this docket, including the workshop transcript, but are encouraged to avoid repetition or replication of previous material. In addition, commenters are encouraged, when possible, to provide examples and quantitative data in support of their answers. Comments must be submitted on or before 75 days from the date of this notice and reply comments are due 120 days from the date of this notice.

Comments may be filed electronically via the internet.² Instructions are available on the Commission's website http://www.ferc.gov/docs-filing/efiling.asp. For assistance, please contact FERC Online Support at FERCOnlineSupport@ferc.gov or toll free at 1-866-208-3676, or for TTY, (202) 502-8659. Although the Commission strongly encourages electronic filing, documents may also be paper-filed. To paper-file, submissions sent via the U.S. Postal Service must be addressed to: Federal Energy Regulatory Commission, Office of the Secretary, 888 First Street NE, Washington, DC 20426. Submissions sent via any other carrier must be addressed to: Federal Energy Regulatory Commission, Office of the Secretary, 12225 Wilkins Avenue, Rockville, MD 20852.

² See 18 CFR 385.2001(a)(1)(iii) (2021).

For more information about this Notice, please contact:

Jessica Cockrell (Technical Information), Office of Energy Policy and Innovation, (202) 502-8190, Jessica.Cockrell@ferc.gov

Moon Athwal (Legal Information), Office of the General Counsel, (202) 502-6272, Moon.Athwal@ferc.gov

Dated: February 28, 2023.
Debbie-Anne A. Reese,
Deputy Secretary.

[FR Doc. 2023-04534 Filed 3-3-23; 8:45 am]

BILLING CODE 6717-01-P